ENVIRONMENTAL PROTECTION AGENCY

[EPA-HQ-OPP-2011-0082; FRL-8871-1]

Withdrawal of Pesticide Petitions for Residues of Pesticide Chemicals in or on Various Commodities

AGENCY: Environmental Protection Agency (EPA).

ACTION: Notice of withdrawal of pesticide petitions.

SUMMARY: This document announces the withdrawal of several pesticide petitions requesting the establishment or modification of regulations. The petitions were withdrawn voluntarily and without prejudice to future filing.

FOR FURTHER INFORMATION CONTACT: A contact person, with telephone number and e-mail address, is listed at the end of each pesticide petition summary. You may also reach each contact person by mail at: Registration Division (7505P), Office of Pesticide Programs, Environmental Protection Agency, 1200 Pennsylvania Ave., NW., Washington, DC 20460-0001.

SUPPLEMENTARY INFORMATION:

I. General Information

A. Does this action apply to me?

Although this action only applies to the petitioners in question, it is directed to the public in general. Since various individuals or entities may be interested, the Agency has not attempted to describe all the specific entities that may be interested in this action. If you have any questions regarding this action, please consult the person listed at the end of the withdrawal summary for the pesticide petition of interest.

B. How can I get copies of this document and other related information?

EPA has established a docket for this action under docket identification (ID) number EPA-HQ-OPP-2011-0082. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

EPA is announcing the withdrawal of pesticide petitions received under section 408 of the Federal Food, Drug, and Cosmetic Act (FFDCA), 21 U.S.C. 346a, requesting the establishment or modification of regulations in 40 CFR Part 174 or Part 180 for residues of pesticide chemicals in or on various food commodities.

Pursuant to 40 CFR 180.7(f), a summary of each of the petitions covered by this document, prepared by the petitioner, was included in a docket EPA created for each rulemaking. The docket for each of the petitions is available on-line at http://www.regulations.gov.

Withdrawals by Petitioners

1. PP 0E7769 (Kerosene, fuel oil #1). EPA issued a notice in the Federal Register of October 22, 2010 (75 FR 65321) (FRL-8851-1) (EPA-HQ-OPP-2010-0803), which announced the filing of a pesticide petition (PP 0E7769) by Lighthouse Product Services, on behalf of Winfield Solutions LLC., 3937 Cedarwood Lane, Johnstown, Colorado 80534. The petition proposed to amend the tolerance in 40 CFR 180.920 for residues of kerosene, fuel oil #1 (CAS Reg. No. 8008-20-6 or 64742-81-0), when used as an inert ingredient in pesticide formulations. On January 11, 2011, Lighthouse Product Services, on behalf of Winfield Solutions LLC., notified EPA that it was withdrawing this petition. Contact: Elizabeth Fertich, (703) 347-8560, e-mail address: fertich.elizabeth@epa.gov.

2. PP 0E7786 (D(+)-Lactide-L-(-)-lactide-meso-lactide polymer). EPA issued a notice in the Federal Register of October 22, 2010 (75 FR 65321) (FRL-8851-1) (EPA-HQ-OPP-2010-0837), which announced the filing of a pesticide petition (PP 0E7786) by NOD Apiary Products USA Inc., 8345 NW., 66th St., 8418, Miami, FL 33166. The petition requested that 40 CFR 180.920 be amended by establishing an exemption from the requirement of a tolerance for residues of D(+)-lactide-L-(-)-lactide-meso-lactide polymer (CAS Reg. No. 9051-89-2) when used as an inert ingredient (component of controlled release agent) in miticide formulations applied to honeybee hives. On January 21, 2011, NOD Apiary Products, notified EPA that it was withdrawing this petition. Contact: Kerry Leifer, (703) 308-8811, e-mail address: leifer.kerry@epa.gov.

3. PP 2E6426 and PP 9E7625 (Linuron). EPA issued a notice in the Federal Register of January 6, 2010 (75 FR 864) (FRL-8801-5) (EPA-HQ-OPP-2009-0843), which announced the filing of pesticide petitions (PP 2E6426 and PP 9E7625) by Interregional Research Project Number 4 (IR-4), 500 College Road East, Suite 201 W., Princeton, NJ 08540. The petitions proposed to amend the tolerances in 40 CFR 180.184 by establishing tolerances for residues of linuron, (3-(3,4-dichlorophenyl)-1-methoxy-1-methylurea) and its metabolites convertible to 3,4-dichloroaniline, calculated as linuron, in or on the raw agricultural commodities: Pea, dry at 0.07 parts per million (ppm); parsley, leaves at 2.5 ppm; and parsley, dried leaves at 7.0 ppm (PP 9E7625); and horseradish at 0.050 ppm (PP 2E6426). On February 1, 2011, Interregional Research Project Number 4 (IR-4), notified EPA that it was withdrawing these petitions. Contact: Laura Nollen, (703) 305-7390, e-mail address: nollen.laura@epa.gov.

4. PP 3E6536 (Mancozeb). EPA issued a notice in the Federal Register of November 30, 2005 (70 FR 71838) (FRL 7747-5) (EPA-HQ-OPP-2005-0307) which announced the filing of a pesticide petition (PP 3E6536) by Dow AgroSciences LLC., 9330 Zionsville Road, Indianapolis, IN 46268. The petition proposed to amend the tolerances in 40 CFR 180.176 by establishing an import tolerance for the combined residues of the fungicide mancozeb in or on the imported food commodities mandarin oranges/mandarins at 5.0 parts per million (ppm). On December 21, 2010, Dow AgroSciences LLC., notified EPA that it was withdrawing the petition. Contact: Lisa Jones, (703) 308-9424, e-mail address: jones.lisa@epa.gov.

5. PP 6E4728 and PP 9E6010 (Agsolex 8 and Agsolex 12). EPA issued a Notice of Filing in the Federal Register on August 30, 2000 (65 FR 52735) (FRL-6595-5), (EPA-HQ-OPP-2011-0060, formerly Docket ID #PF-956), which announced the filing of a pesticide petition (PP 6E4728) by International Specialty Products, 1361 Alps Road, Wayne, NJ 07470. The petition proposed to amend 40 CFR 180.1001(c) and (e) for residues of N-(n-octyl)-2-pyrrolidone (Agsolex 8) (CAS Reg No. 2687-94-7) and N-(n-dodecyl)-2-pyrrolidone (Agsolex 12) (CAS Reg. No. 2687-96-9) when used as an inert ingredient in or on growing crops, when applied to raw agricultural commodities, or to animals. EPA also issued a Notice of Filing on September 2, 1999 (64 FR 48165) (FRL-6094-5) (EPA-HQ-OPP-2011-0060, formerly Docket ID #PF-883), which announced the filing of a pesticide petition (PP 9E6010) by International Specialty Products, 1361 Alps Road, Wayne, NJ 07470. The petition proposed to amend 40 CFR Part 180 for residues of N-(n-octyl)-2-pyrrolidone (Agsolex 8) (CAS Reg. No. 2687-94-7) in or on the raw agricultural commodities (RACs): Soybeans, soybean forage, soybean fodder, and soybean hay when used as an inert ingredient (solvent) in seed treatment applied at a maximum rate of 3 grams/acre. On February 4, 2011, International Specialty Products, notified EPA that it was withdrawing both petitions (PP 6E4728 and PP 9E6010). Contact: Mark Dow (703) 305-5533, e-mail address: dow.mark@epa.gov.

6. PP 9E7611 (Chlorothalonil). EPA issued a notice in the Federal Register of January 6, 2010 (75 FR 864) (FRL-8801-5) (EPA-HQ-OPP-2009-0774), which announced the filing of a pesticide petition (PP 9E7611) by Interregional Research Project Number #4 (IR-4), IR-4 Project Headquarters, 500 College Road East, Suite 201W, Princeton, NJ 08540. The petition proposed to amend the tolerances in 40 CFR 180.275 by establishing a tolerance for residues of chlorothalonil in or on berry, low growing subgroup 13-07G at 0.01 ppm; bushberry subgroup 13-07B at 1 ppm; onion, bulb subgroup 3-07A at 0.5 ppm; and onion, green subgroup 3-07B at 5 ppm. On December 1, 2010, IR-4, notified EPA that it was withdrawing this petition. Contact: Sidney Jackson, (703) 305-7610, e-mail address: jackson.sidney@epa.gov.

7. PP 9E7638 (Alkyl polyglycosides). EPA issued a notice in the Federal Register of February 4, 2010 (75 FR 5790) (FRL-8807-5) (EPA-HQ-OPP-2009-0937), which announced the filing of a pesticide petition (PP 9E7638) by Cognis Corporation, c/o Lewis & Harrison, LLC., 122 C. St., NW., Suite 740, Washington, DC 20001. The petition proposed to establish an exemption from the requirement of a tolerance for residues of the alkyl polyglycosides (CAS Reg. Nos. 68515-73-1, 110615-47-9, and 132778-08-6) under 40 CFR 180.950 when used as inert ingredient in pesticide formulations. On September 8, 2010, Lewis & Harrison, LLC., notified EPA that it was withdrawing this petition. Contact: Karen Samek, (703) 347-8825, e-mail address: samek.karen@epa.gov.

8. PP 0F7739 (Diflubenzuron). EPA issued a notice in the Federal Register of August 11, 2010 (75 FR 48667) (FRL-8840-6) (EPA-HQ-OPP-2010-0603), which announced the filing of a pesticide petition (PP 0F7739) by Chemtura Corporation, 199 Benson Road (2-5), Middlebury, CT 06749. The petition proposes to establish tolerances in 40 CFR part 180 for residues of the insecticide diflubenzuron, N-[[(4-chlorophenyl) amino]carbonyl]-2,6-difluorobenzamide (DFB) and its metabolites 4-chlorophenylurea (CPU) and 4-chloroaniline (PCA), in or on citrus fruit, crop group 10 at 1.3 ppm, and citrus, oil processed commodity at 39 ppm. On August 12, 2010, Chemtura Corp., notified EPA that it was withdrawing the petition for citrus fruit, crop group 10, only. Contact: Kable Davis, (703) 306-0415, e-mail address: davis.kable@epa.gov.

9. PP 8F7349 (Methomyl). EPA issued a notice in the Federal Register of August 13, 2008 (73 FR 47184) (FRL-8376-8), (EPA-HQ-OPP-2007-0975), which announced the filing of a pesticide petition (PP 8F7349) by DuPont de Nemours and Company, DuPont Crop Protection, P.O. Box 30, Newark, DE 19714-0030. The petition proposes to set reduced tolerances in 40 CFR Part 180 for residues of the insecticide, methomyl (S-methyl N-[(methylcarbamoyl)oxy] thioacetimidate), in or on grapes, table at 1.5 ppm; grapes, juice at 5.0 ppm; grapes, raisin at 5.0 ppm; and grapes, wine at 5.0 ppm. On February 9, 2010, DuPont, notified EPA that it was withdrawing the petition for decreasing the tolerance on grapes. Contact: Tom Harris, (703) 308-9423, e-mail address: harris.thomas@epa.gov.

10. PP 9F7622 (Metconazole). EPA issued a notice in the Federal Register of June 23, 2010 (75 FR 35801) (FRL-8831-3), (EPA-HQ-OPP-2010-0287), which announced the filing of a pesticide petition (PP 9F7622) by Valent U.S.A. Company, 1600 Riviera Ave., Suite 200, Walnut Creek, CA 94596-8025. The petition proposed to amend the tolerances in 40 CFR 180.617 by decreasing the established tolerance for residues of the fungicide metconazole, 5-[(4-chlorophenyl)methyl]-2,2-dimethyl-1-(1H-1,2,4-triazol-1-ylmethyl)cyclopentanol, measured as the sum of cis- and trans-isomers, in or on nut, tree (crop group 14) from 0.04 ppm to 0.02 ppm. On November 30, 2010, Valent U.S.A. Company, notified EPA that it was withdrawing this petition. Contact: Tracy Keigwin, (703) 305-6605, e-mail address: keigwin.tracy@epa.gov.

11. PP 7F7264 (Flusilazole). EPA issued a notice in the Federal Register of April 13, 2009 (74 FR 16866) (FRL-8396-6) (EPA-HQ-OPP-2008-0838), which announced the filing of a pesticide petition (PP 7F7264) by E. I. duPont de Nemours and Company, DuPont Crop Protection, P. O. Box 30, Newark, DE 19714-0030. The petition proposed to establish a tolerance in 40 CFR Part 180 for residues of the fungicide flusilazole, (1[[bis(4-fluorophenyl)methyl-silyl]methyl]-1H-1,2,4-triazole) and its metabolite IN-F7321 (bis(4-fluorophenyl) methylsilanol) in or on soybean at 0.04 parts per million (ppm); soybean, aspirated grain fractions at 2.6 ppm; soybean, refined oil at 0.1 ppm; wheat, grain at 0.15 ppm; wheat, forage at 25 ppm, wheat, straw at 7.0 ppm; wheat, aspirated grain fractions at 6.0 ppm; cattle, fat at 1.5 ppm; cattle, kidney at 5.0 ppm; cattle, liver at 2.0 ppm; cattle, meat and cattle meat byproducts at 0.40 ppm; goat, fat at 1.5 ppm; goat, kidney at 5.0 ppm; goat, liver, at 2.0 ppm; goat, meat and goat, meat byproducts at 0.40 ppm; hog, fat at 1.5 ppm; hog, kidney at 5.0 ppm; hog, liver at 2.0 ppm; hog, meat and hog, meat byproducts at 0.40 ppm; horse, fat at 1.5 ppm; horse, kidney at 5.0 ppm; horse, liver at 2.0 ppm; horse, meat and horse, meat byproducts a 0.40 ppm; milk at 0.20 ppm; milk, fat at 1.3 ppm; sheep, fat at 1.5 ppm; sheep, kidney at 5.0 ppm; sheep, liver at 2.0 ppm; sheep, meat and sheep, meat byproducts at 0.40 ppm. On February 2, 2009, E. I. duPont de Nemours and Company, DuPont Crop Protection notified EPA that it was withdrawing this petition. Contact: Tracy Keigwin, 703-305-6605, keigwin.tracy@epa.gov.

12. PP 8E7313 (Fenpropidin). EPA issued a notice in the Federal Register of April 13, 2009 (74 FR 16866) (FRL-8396-6) (EPA-HQ-OPP-2008-0840), which announced the filing of a pesticide petition (PP 8E7313) by Syngenta Crop Protection, P.O. Box 18300, Greensboro, NC 27419. The petition proposed to establish a tolerance in 40 CFR part 180 for residues of the fungicide fenpropidin, 1-[3-[4-(1, 1-dimethylethyl) phenyl]-2-methyl-propyl]-piperidine in or on banana, whole fruit at 10 parts per million (ppm). On October 16, 2009, Syngenta Crop Protection notified EPA that it was withdrawing this petition. Contact: Tracy Keigwin, 703-305-6605, keigwin.tracy@epa.gov.

List of Subjects

Environmental protection, Agricultural commodities, Feed additives, Food additives, Pesticides and pests, Reporting and recordkeeping requirements.

Dated: June 21, 2011.
Lois Rossi,
Director, Registration Division, Office of Pesticide Programs.

[FR Doc. 2011-16199 Filed 6-28-11; 8:45 am]

BILLING CODE 6560-50-P